DEPARTMENT OF LABOR

Employment and Training Administration

[TA-W-65,307]

Sypris Technologies; Kenton, OH; Notice of Termination of Investigation

The investigation was initiated on February 19, 2009 in response to a petition filed by the United Steelworkers of America, Local 1109 on behalf of workers of Sypris Technologies, Kenton, Ohio.

The petitioner has requested that the petition be withdrawn. Consequently, the investigation has been terminated.

Signed at Washington, DC, this 3rd day of April 2009.
Linda G. Poole,
Certifying Officer, Division of Trade Adjustment Assistance.

[FR Doc. E9-10377 Filed 5-5-09; 8:45 am]

BILLING CODE 4510-FN-P